DEPARTMENT OF ENERGY

Federal Energy Regulatory Commission

Sunshine Act Meetings

The following notice of meeting is published pursuant to Section 3(a) of the Government in the Sunshine Act (Pub. L. 94-409), 5 U.S.C. 552b:

TIME AND DATE: January 25, 2024.

* Note.—The Closed meeting will follow the Joint meeting of the Federal Energy Regulatory Commission and the Nuclear Regulatory Commission.¹

¹ See FERC, Notice of Joint Meeting of the Federal Energy Regulatory Commission and the Nuclear Regulatory Commission, Docket No. AD06-6-000 (Jan. 10, 2024).

PLACE: Federal Energy Regulatory Commission, 888 First Street NE, Washington, DC 20426.

STATUS: Closed.

MATTERS TO BE CONSIDERED: Non-Public, Cyber Security, Energy and Security Issues.

CONTACT PERSON FOR MORE INFORMATION: Debbie-Anne A. Reese, Acting Secretary, Telephone (202) 502-8400.

Chairman Phillips, and Commissioners Clements, and Christie voted to hold a closed meeting that will be held on January 25, 2024. The certification of the General Counsel explaining the action closing the meeting is available for viewing on the Commission's website at https://elibrary.ferc.gov/eLibrary/search using the eLibrary link, under accession number 20240110-3025.

The Chairman and the Commissioners and members of their staff, and the Nuclear Regulatory Commission and members of their staff, are expected to attend the meeting. Other staff members from the Commission's program offices who will advise the Commissioners in the matters discussed will also be present.

Issued: January 10, 2024.
Debbie-Anne A. Reese,
Acting Secretary.

[FR Doc. 2024-00766 Filed 1-11-24; 4:15 pm]

BILLING CODE 6717-01-P